DEPARTMENT OF HEALTH AND HUMAN SERVICES

Office of the National Coordinator for Health Information Technology; American Health Information Community Population Health and Clinical Care Connections Workgroup Meeting

ACTION: Announcement of meeting.

SUMMARY: This notice announces the 16th meeting of the American Health Information Community Population Health and Clinical Care Connections Workgroup [formerly Biosurveillance Workgroup] in accordance with the Federal Advisory Committee Act (Pub. L. 92-463, 5 U.S.C., App.).

DATES: June 15, 2007, from 10 a.m. to 3:30 p.m. [Eastern time].

ADDRESSES: Hubert H. Humphrey Building (200 Independence Avenue, SW., Washington, DC 20201), Conference Room 705A (please bring photo ID for entry to a Federal building).

FOR FURTHER INFORMATION CONTACT: http://www.hhs.gov/healthit/ahic/population/.

SUPPLEMENTARY INFORMATION: The Workgroup will continue its discussion on how to facilitate the flow of reliable health information among population health and clinical care systems necessary to protect and improve the public's health. This meeting will focus on countermeasure allocation, distribution and administration, as well as automated integration with response registries.

The meeting will be available via Web cast. For additional information, go to: http://www.hhs.gov/healthit/ahic/population/pop_instruct.html.

Dated: May 3, 2007.
Judith Sparrow,
Director, American Health Information Community, Office of Programs and Coordination, Office of the National Coordinator for Health Information Technology.

[FR Doc. 07-2328 Filed 5-10-07; 8:45 am]

BILLING CODE 4150-24-M